DEPARTMENT OF TRANSPORTATION

Federal Aviation Administration

14 CFR Parts 91, 121, 135, and 145

[Docket No.:FAA-1999-5836]

RIN 2120-AC38

Repair Stations

AGENCY: Federal Aviation Administration (FAA), DOT.

ACTION: Final rule; delay of effective date.

SUMMARY: The FAA is delaying the effective date of a final rule that amends the regulations for aeronautical repair stations. This action is necessary to give repair station certificate holders more time to develop required manuals using recently issued FAA guidance material before submitting the manuals to FAA for acceptance. Also this action will allow repair station certificate holders to follow FAA guidance material for requesting FAA approval of contract maintenance functions.

DATES: The effective date of the final rule amending 14 CFR parts 91, 121, 135, and 145 published on August 6, 2001, at 66 FR 41088 is delayed until January 31, 2004, with the following exception: § 145.163 remains effective April 6, 2005.

FOR FURTHER INFORMATION CONTACT: Diana Frohn, Flight Standards Service, Aircraft Maintenance Division, General Aviation and Repair Station Branch, AFS-340, Federal Aviation Administration, 800 Independence Avenue, SW., Washington, DC 20591; telephone (202) 267-7027; e-mail diana.frohn@faa.gov.

SUPPLEMENTARY INFORMATION:

The Final Rule

On July 30, 2001, the FAA issued Repair Stations; Final Rule with Request for Comments and Direct Final Rule with Request for Comments (66 FR 41088; August 6, 2001). That final rule updates and revises part 145 of Title 14, Code of Federal Regulations, which prescribes the regulations for aeronautical repair stations. In that rulemaking action, we established a new requirement that each repair station must maintain and use a current repair station manual and a quality control manual. We also prescribed the contents of these manuals.

Initially, the final rule was to become effective April 6, 2003. However, on October 21, 2002, the FAA received a petition from the Aircraft Electronics Association, the Aerospace Industries Association, the Aviation Suppliers Association, and the National Air Transportation Association. Those petitioners requested that the FAA extend the effective date of the final rule arguing that we had not yet published advisory material and guidance explaining how to produce an acceptable manual. Further, the petitioners asserted that without advisory material, we could not adequately train FAA personnel. We agreed with the petitioners and extended the effective date of the final rule to October 3, 2003 (68 FR 125429, March 14, 2003; 68 FR 17545, April 10, 2003).

On July 3, 2003, the FAA issued Advisory Circular No. 145-9 (AC 145-9), Guide for Developing and Evaluating Repair Station and Quality Control Manuals. That document provides information and guidance material for developing and evaluating repair station manuals and quality control manuals. The material describes an acceptable means, but not the only means, to develop a manual and comply with the rules contained in part 145. Interested parties may access AC 145-9 at the following Internet Web site: http://www.airweb.faa.gov/Regulatory_and_Guidance_Library/rgWebcomponents.nsf/HomeFrame?OpenFrameSet.

On July 22, 2003, the Aircraft Electronics Association, the Aviation Repair Station Association, and the National Air Transportation Association submitted another petition requesting that the FAA further extend the effective date of the final rule. The petitioners note that the FAA issued material to guide repair stations in developing the manuals required in part 145 only 90 days before the effective date of the rule. The petitioners contend that 90 days is not enough time to develop manuals using the guidance materials. Therefore, the petitioners request that we extend the effective date of the final rule an additional 120 days.

We agree with the petitioners that additional time is necessary to allow repair station certificate holders to prepare repair station manuals and quality control manuals following the guidance provided in AC 145-9. Therefore, we find that a 120-day extension is in the public interest.

The petitioners also note that § 145.221 references sections in 14 CFR parts 121, 125, and 135 related to service difficulty reporting, which have not become effective. The FAA is addressing this issue in a separate rulemaking action.

Finally, the delay in the effective date of the final rule does not impose any new requirements or any additional burden on the regulated public. However, the 120-day extension will delay realization of some cost savings provided by the rule. We, therefore, find there are no additional costs, aside from the delay in realizing some cost savings, or benefits associated with this action.

Good Cause for Immediate Adoption

In accordance with 5 U.S.C. 553(b)(3)(B), I find good cause for issuing this rule without prior notice and comment. Seeking public comment is impracticable, unnecessary, and contrary to the public interest. This delay of effective date will give repair stations sufficient time to use FAA guidance material in preparing to operate under the amended regulations for repair stations. Given the imminence of the effective date, seeking prior public comments on this temporary delay would be impracticable, as well as contrary to the public interest in the orderly promulgation and implementation of this rule.

In consideration of the foregoing, parts 91, 121, 135, and 145 are amended to delay the effective date of the final rule by 120 days.

Issued in Washington, DC, on September 23, 2003.
Marion C. Blakey,
Administrator.

[FR Doc. 03-24546 Filed 9-24-03; 2:55 pm]

BILLING CODE 4910-13-P